DEPARTMENT OF COMMERCE

International Trade Administration

[A-489-805]

Certain Pasta From Turkey: Extension of Time Limit for the Final Results of Antidumping Duty Administrative Review

AGENCY: Import Administration, International Trade Administration, Department of Commerce.

DATES: Effective Date: August 25, 2011.

FOR FURTHER INFORMATION CONTACT: Stephanie Moore or Cindy Robinson, AD/CVD Operations, Office 3, Import Administration, International Trade Administration, U.S. Department of Commerce, 14th Street and Constitution Ave, NW., Washington, DC 20230; telephone: (202) 482-3692 or (202) 482-3797, respectively.

SUPPLEMENTARY INFORMATION:

Background

On April 29, 2011, the Department of Commerce (the Department) published the preliminary results of the administrative review of the antidumping duty order on certain pasta from Turkey (pasta) for the period July 1, 2009, through June 30, 2010.¹ The final results of administrative review are currently due August 27, 2011.

¹ See Certain Pasta From Turkey: Notice of Preliminary Results of Antidumping Duty Administrative Review, 76 FR 23974 (April 29, 2011) (Preliminary Results).

Extension of Time Limit of Preliminary Results

Section 751(a)(3)(A) of the Tariff Act of 1930, as amended (the Act), requires that the Department issue final results within 120 days after the date on which the preliminary results are published. However, if it is not practicable to complete the review within this time period, section 751(a)(3)(A) of the Act allows the Department to extend the time period to a maximum of 180 days. Completion of the final results of the administrative review within the 120-day period is not practicable because the Department needs additional time to analyze complex issues regarding affiliation and knowledge of U.S. destination. Given the complexity of these issues, and in accordance with section 751(a)(3)(A) of the Act, we are extending the time period for issuing the final results of this review to 180 days. Therefore, the final results are now due no later than October 26, 2011.

We are publishing this notice pursuant to sections 751(a)(3)(A) and 777(i)(1) of the Act.

Dated: August 19, 2011.
Christian Marsh,
Deputy Assistant Secretary for Antidumping and Countervailing Duty Operations.

[FR Doc. 2011-21833 Filed 8-24-11; 8:45 am]

BILLING CODE 3510-DS-P